DEPARTMENT OF LABOR

Office of the Secretary

Solicitation for Grant Applications (SGA) 01-05; HIV/AIDS Global Workplace Prevention and Education Program; Correction and Due Date Extension

AGENCY: Bureau of International Labor Affairs, Labor.

ACTION: Notice of corrections and extension of due date for receipt of proposal.

SUMMARY: In the Federal Register, Vol. 66, No. 124, page 34244, Wednesday, June 27, 2001 the competition was announced and the SGA printed in its entirety. Section V. B. (1)(c), instructs applicants to create a model workplan and budget based on Ethiopia. Applicants may now select, at their discretion, any country to develop the model workplan and budget required for the Technical Sample. Due to this correction, the due date for submission of applications is extended. All applications must now be submitted to the U.S. Department of Labor, Procurement Services Center, Room N-5416, 200 Constitution Avenue, NW., Washington, DC 20210, not later than 4:45 pm EDT, August 3, 2001.

FOR FURTHER INFORMATION CONTACT: Lisa Harvey, Department of Labor, Telephone (202) 219-9355, e-mail: harvey-lisa@dol.gov.

Signed at Washington, DC, this 9th day of July, 2001.
Daniel P. Murphy,
Director, Procurement Services Center.

[FR Doc. 01-17783 Filed 7-16-01; 8:45 am]

BILLING CODE 4510-28-M